DEPARTMENT OF JUSTICE

Notice of Lodging Proposed Consent Decree

In accordance with Departmental Policy, 28 CFR 50.7, notice is hereby given that a proposed Consent Decree in United States of America v. Cardinal Fencing, Inc. and Frank O. Bonner, Civ. Action # 5:06cv1268 (N.D. Ohio), was lodged with the United States District Court for the Northern District of Ohio on May 22, 2006.

This proposed Consent Decree concerns a complaint filed by the United States against Cardinal Fencing, Inc. and Frank O. Bonner, pursuant to Section 301(a) of the Clean Water Act, 33 U.S.C. 1311(a), to impose civil penalties against the Defendants for violating the Clean Water Act by discharging pollutants without a permit into waters of the United States. The proposed Consent Decree resolves these allegations by requiring the Defendants to perform mitigation and to pay a civil penalty.

The Department of Justice will accept written comments relating to this proposed Consent Decree for thirty (30) days from the date of publication of this Notice. Please address comments to Laurel A. Bedig, U.S. Department of Justice, Environment & Natural Resources Division, Environmental Defense Section, P.O. Box 23986, Washington, DC 20026-3986 and refer to United States v. Cardinal Fencing, Inc. and Frank O. Bonner, DJ # 90-5-1-1-16125.

The proposed Consent Decree may be examined at the Clerk's Office, United States District Court for the Northern District of Ohio, Carl B. Stokes United States Court House, 801 West Superior Avenue, Cleveland, Ohio 44113. In addition, the proposed Consent Decree may be viewed at http://www.usdoj.gov/enrd/open.html.

Dated: May 23, 2006.
Scott Schachter,
Assistant Chief, Environmental Defense Section, Environmental & Natural Resources Division.

[FR Doc. 06-5019 Filed 5-31-06; 8:45 am]

BILLING CODE 4410-15-M